DEPARTMENT OF THE INTERIOR

National Park Service

[2253-665]

Notice of Intent To Repatriate Cultural Items: Benton County Historical Society and Museum, Philomath, OR

AGENCY: National Park Service, Interior.

ACTION: Notice.

SUMMARY: The Benton County Historical Society and Museum (BCHS), in consultation with the appropriate Indian tribes, has determined that the cultural items meet the definition of sacred objects and repatriation to the Indian tribe stated below may occur if no additional claimants come forward. Representatives of any Indian tribe that believes itself to be culturally affiliated with the cultural items may contact the Benton County Historical Society and Museum.

DATES: Representatives of any Indian tribe that believes it has a cultural affiliation with the cultural items should contact the Benton County Historical Society and Museum at the address below by May 21, 2012.

ADDRESSES: Mary K. Gallagher, Benton County Historical Society and Museum, 1101 Main Street, P.O. Box 35, Philomath, OR 97370, telephone (541) 929-6230.

SUPPLEMENTARY INFORMATION: Notice is here given in accordance with the Native American Graves Protection and Repatriation Act (NAGPRA), 25 U.S.C. 3005, of the intent to repatriate cultural items under the control of the Benton County Historical Society and Museum, Philomath, OR, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The nine cultural items include: 1 basket hat; 1 drum; 1 wild celery root; 1 decorated wooden projectile point; 1 elk horn purse; 1 grass and bead hair wrap; 1 necklace of dentalia shells and small round black glass beads; 1 ceremonial bow; and 1 associated arrow. All of the items are from the Horner Museum, which was established in 1925 on the campus of what is now Oregon State University in Corvallis, OR. In 2005, items from the Horner Museum were acquired by the Benton County Historical Society and Museum (BCHS) located in nearby Philomath, OR. At the time of the transfer, Oregon State University (OSU) was in the process of completing NAGPRA requirements for items from the Horner Museum. In the transfer agreement with OSU, the BCHS took physical custody all unclaimed NAGPRA items and is now responsible for NAGPRA claims for cultural items from the collection.

Six of the cultural items (the hat, the drum, the wild celery root, the elk horn purse, the projectile point, and the hair wrap) are from the collection of Mrs. James Edmond Barrett. According to notes found in the Horner Museum donor file, Mrs. Barrett was a schoolteacher in southwestern Oregon who collected these cultural items over a period of 60 years. In 1927, she loaned her collection to the Horner Museum at what was then Oregon Agricultural College (OAC) to honor her son and daughter-in-law who attended OAC. This loan was renewed in 1939 and again 1947. In 1972, the collection was donated to the Horner Museum by Lois Barrett, the daughter-in-law of Mrs. James Edmond Barrett. According to the 1934 catalog cards, three items (the elk horn purse, the wild celery root and the projectile point) originated from Happy Camp, CA, and one item (the drum) was used in religious festivals held twice a year on the Klamath River. The other two items do not have catalog cards.

Two of the cultural items (the bow and the arrow) are from the Dr. J. L. Hill collection. The J. L. Hill collection was donated to OAC in 1924 and formed the nucleus of the Horner Museum which opened in 1925. Previously, the J. L. Hill collection was housed at the Hill Museum in Albany, OR. On September 30, 1924, the Barometer newspaper reported, “The Hill museum of Albany, the largest private collection of natural history specimens, Indian relics, and miscellaneous articles in Oregon, has been given to the college by the heirs of Dr. J. L. Hill. The material was collected by Doctor Hill during a period of sixty years from all parts of the earth regardless of expense” (Barometer, OAC, Corvallis, OR). The bow and the arrow from the Hill Collection have no original catalog card and no known provenance. Suggested affiliation, based on consultations, include Karuk, Hupa, Towla and Duckwater Shoshone.

One cultural item (the dentalia necklace) is from the collection of the Kennedy-Tartar family. This collection was donated to the Horner Museum in 1973. The original catalog card does not provide any information on the provenance of this item. Members of Kennedy-Tartar family had a connection to Siletz tribal members and donated items to the Horner Museum that clearly came from the Siletz. There are also many items in the Kennedy-Tartar collection from the Klamath tribes, much of which has been claimed. At least one piece of paper in the accession file has the word “Karuk” but there is no indication of what item is referenced.

On July 13, 2011, representatives of the Karuk Tribe visited the BCHS to view unclaimed cultural items. On August 15, 2011, the BCHS received a claim from the Karuk Tribe for the repatriation of nine cultural items. The BCHS reviewed the claim and determined that cultural affiliation to the Karuk Tribe is clearly established for six of the cultural items. On November 17, 2005, Smith River Rancheria withdrew a claim for one of the items (the basket hat) noting that after reviewing the item again they believed that in fact it was Karuk in origin. After a review of additional evidence presented by the Karuk Tribe, the BCHS has determined that cultural affiliation to the Karuk Tribe exists for all nine cultural items and that these cultural items are sacred objects that have religious significance in the practice of traditional ceremony.

Determinations Made by the Benton County Historical Society and Museum

Officials of the BCSM have determined that:

• Pursuant to 25 U.S.C. 3001(3)(C), the nine cultural items described above are specific ceremonial objects needed by traditional Native American religious leaders for the practice of traditional Native American religions by their present-day adherents.

• Pursuant to 25 U.S.C. 3001(2), there is a relationship of shared group identity that can be reasonably traced between the sacred objects and the Karuk Tribe (formerly Karuk Tribe of California).

Additional Requestors and Disposition

Representatives of any other Indian tribe that believes itself to be culturally affiliated with the sacred objects should contact Mary K. Gallagher, Benton County Historical Society and Museum, 1101 Main Street, PO Box 35, Philomath, OR 97370, telephone (541) 929-6230 before May 21, 2012. Repatriation of the sacred objects to the Karuk Tribe may proceed after that date if no additional claimants come forward.

The Benton County Historical Society is responsible for notifying the Karuk Tribe that this notice has been published.

Dated: April 12, 2012.
David Tarler,
Acting Manager, National NAGPRA Program.

[FR Doc. 2012-9433 Filed 4-18-12; 8:45 am]

BILLING CODE 4312-50-P